DEPARTMENT OF THE INTERIOR

Bureau of Land Management

[MT-926-05-1910-BJ-4360]

Montana: Filing of Plat of Survey

AGENCY: Bureau of Land Management, Montana State Office, Interior.

ACTION: Notice of filing of plat of survey.

SUMMARY: The Bureau of Land Management (BLM) will file the plat of survey of the lands described below in the BLM Montana State Office, Billings, Montana, (30) days from the date of publication in the Federal Register.

FOR FURTHER INFORMATION CONTACT: Steve Toth, Cadastral Surveyor, Branch of Cadastral Survey, Bureau of Land Management, 5001 Southgate Drive, P.O. Box 36800, Billings, Montana 59107-6800, telephone (406) 896-5121 or (406) 896-5009.

SUPPLEMENTARY INFORMATION: This survey was executed at the request of the U.S. Forest Service and was necessary to delineate Forest Service lands. The lands we surveyed are:

Black Hills Meridian, South Dakota

T. 3 S., R. 12 E.

The plat, in 5 sheets, representing the dependent resurvey of a portion of the north boundary, a portion of the west boundary, a portion of the subdivisional lines, certain adjusted original meanders of the former left and right banks of the South Fork of the Cheyenne River, through sections 5, 8, 17, 18, and 19, and the 2001 meanders of the present left bank of the South Fork of the Cheyenne River, through sections 19 and 30, and the subdivision of sections 4, 8, 17, 18, and 19, and the survey of certain division of accretion lines and certain meanders of the present left and right banks of the South Fork of the Cheyenne River through sections 5, 8, 9, 17, 18, and 19, Township 3 South, Range 12 East, Black Hills Meridian, South Dakota, was accepted December 9 2004.

We will place copies of the plat, in 5 sheets, and related field notes we described in the open files. They will be available to the public as a matter of information.

If BLM receives a protest against this survey, as shown on this plat, in five sheets, prior to the date of the official filing, we will stay the filing pending our consideration of the protest.

We will not officially file this plat, in five sheets, until the day after we have accepted or dismissed all protests and they have become final, including decisions or appeals.

Dated: January 4, 2005.
Steven G. Schey,
Acting Chief Cadastral Surveyor, Division of Resources.

[FR Doc. 05-483 Filed 1-10-05; 8:45 am]

BILLING CODE 4310-$$-P